NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on October 1-4, 2003, 11545 Rockville Pike, Rockville, Maryland. The date of this meeting was previously published in the Federal Register on Monday, November 20, 2002 (67 FR 70094).

Wednesday, October 1, 2003, Conference Room T-2B3, Two White Flint North, Rockville, Maryland

10:15 a.m.-10:20 a.m.: Opening Remarks by the ACRS Chairman (Open)—The ACRS Chairman will make opening remarks regarding the conduct of the meeting.

10:20 a.m.-12 Noon: Final Review of the Fort Calhoun License Renewal Application (Open)—The Committee will hear presentations by and hold discussions with representatives of the NRC staff and the Omaha Public Power District regarding the License Renewal Application for the Fort Calhoun Station Unit 1 and the associated final Safety Evaluation Report prepared by the staff.

1 p.m.-3 p.m.: Interim Review of the AP1000 Design (Open)—The Committee will hear presentations by and hold discussions with representatives of the NRC staff and Westinghouse regarding the resolution of open items and related matters.

3:15 p.m.-4:45 p.m.: Proactive Material Degradation Assessment Program (Open)—The Committee will hear presentations by and hold discussions with representatives of the NRC staff regarding the proposed proactive research program for assessing materials degradation at nuclear power plants.

5 p.m.-6:15 p.m.: Preparation for Meeting with the NRC Commissioners (Open)—The Committee will discuss the following topics scheduled for the ACRS meeting with the NRC Commissioners on October 2, 2003: (1) Overview by the ACRS Chairman of several items of interest including, risk-informing 10 CFR 50.46 and proposed 10 CFR 50.69; License renewal activities; AP1000 design; Preapplication review of ESBWR design; and Power uprate review standard, (2) Improvement of the Quality of Risk Information for Regulatory Decisionmaking, (3) Materials Degradation Issues, and (4) Reactor Oversight Process.

6:30 p.m.-7:30 p.m.: Preparation of ACRS Reports (Open/Closed)—The Committee will discuss proposed ACRS reports on matters considered during this meeting. In addition, the Committee will discuss a proposed ACRS report on safeguards and security matters (Closed).

Thursday, October 2, 2003, Conference Room T-2B3, Two White Flint North, Rockville, Maryland

8:30 a.m.-8:35 a.m.: Opening Remarks by the ACRS Chairman (Open)—The ACRS Chairman will make opening remarks regarding the conduct of the meeting.

8:35 a.m.-9 a.m.: Subcommittee Report on the Interim Review of the License Renewal Application for H. B. Robinson Nuclear Power Plant (Open)—The Committee will hear a report by and hold discussions with the Chairman of the ACRS Subcommittee on Plant License Renewal regarding the review of the H. B. Robinson License Renewal Application and the staff's draft Safety Evaluation Report with open items.

9 a.m.-9:15 a.m.: Subcommittee Report on Fire Protection Matters (Open)—The Committee will hear a report by and hold discussions with Fire Protection Subcommittee Chairman regarding matters discussed at the September 9, 2003 meeting.

9:30 a.m.-11:30 a.m.: Meeting with the NRC Commissioners (Open)—The Committee will meet with the NRC Commissioners in the Commissioners' Conference Room, One White Flint North to discuss the matters of mutual interest noted above.

12:30 p.m.-1:30 p.m.: Review of the PIRT Process (Open)—The Committee will hear a presentation by and hold discussions with Dr. Nourbakhsh, ACRS Senior Fellow, regarding his review of the Phenomena Identification and Ranking Table (PIRT) process.

1:45 p.m.-3:45 p.m.: Operating Experience Assessment Report—Effects of Grid Events on Nuclear Power Plant Performance (Open)—The Committee will hear presentations by and hold discussions with representatives of the NRC staff regarding the staff's report on the effects of grid event (1985-2001) on nuclear power plant performance and related matters.

4 p.m.-6 p.m.: Format and Content of the NRC Safety Research Program Report (Open)—The Safety Research Program Subcommittee Chairman will discuss the format and content of the annual ACRS report to the Commission on the NRC Safety Research Program as well as assignments for the ACRS members.

6:15 p.m.-7:30 p.m.: Preparation of ACRS Reports (Open/Closed)—The Committee will discuss proposed ACRS reports on matters considered during this meeting. In addition, the Committee will discuss a proposed ACRS report on safeguards and security matters (Closed).

Friday, October 3, 2003, Conference Room T-2B3, Two White Flint North, Rockville, Maryland

8:30 a.m.-8:35 a.m.: Opening Remarks by the ACRS Chairman (Open)—The ACRS Chairman will make opening remarks regarding the conduct of the meeting.

8:35 a.m.-10 a.m.: Draft Final Revision to Regulatory Guide 1.168 (DG-1123), “Verification, Validation, Review, and Audits for Digital Computer Software Used in Safety Systems of Nuclear Power Plants' (Open)—The Committee will hear presentations by and hold discussions with representatives of the NRC staff regarding the Draft Final Revision to Regulatory Guide 1.168.

10:15 a.m.-10:45 a.m.: Subcommittee Report on Reactor Fuels (Open)—The Reactor Fuels Subcommittee Chairman will provide a brief report on matters discussed during the September 29-30, 2003 meeting.

10:45 a.m.-11:45 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

11:45 a.m.-12 Noon: Reconciliation of ACRS Comments and Recommendations (Open)—The Committee will discuss the responses from the NRC Executive Director for Operations (EDO) to comments and recommendations included in recent ACRS reports and letters. The EDO responses are expected to be made available to the Committee prior to the meeting.

1 p.m.-7 p.m.: Preparation of ACRS Reports (Open/Closed)—The Committee will discuss proposed ACRS reports on matters considered during this meeting. In addition, the Committee will discuss a proposed ACRS report on safeguards and security matters (Closed).

Saturday, October 4, 2003, Conference Room T-2B3, Two White Flint North, Rockville, Maryland

8:30 a.m.-9 a.m.: Safeguards and Security (Closed)—The Committee will discuss issues for inclusion in the ACRS report on risk-informed vulnerability assessment and risk-informed decisionmaking.

Note: This session will be closed pursuant to 5 U.S.C. 552b(c)(1).

9 a.m.-1 p.m.: Preparation of ACRS Reports (Open/Closed)—The Committee will continue discussion of the proposed ACRS reports on matters considered during its meeting. In addition, the Committee will discuss a proposed ACRS report on Safeguards and Security matters (Closed).

1 p.m.-1:30 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director for Technical Support if such rescheduling would result in major inconvenience.

In accordance with Subsection 10(d) Pub. L. 92-463, I have determined that it is necessary to close portions of this meeting noted above to discuss and protect information classified as national security information pursuant to 5 U.S.C. 552b(c)(1).

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: September 22, 2003.
Andrew L. Bates,
Advisory Committee Management Officer.

[FR Doc. 03-24360 Filed 9-25-03; 8:45 am]

BILLING CODE 7590-01-P